DEPARTMENT OF COMMERCE

International Trade Administration

[A-274-806]

Melamine From Trinidad and Tobago: Final Determination of Sales at Less Than Fair Value

AGENCY: Enforcement and Compliance, International Trade Administration, Commerce.

SUMMARY: The Department of Commerce (“Department”) determines that melamine from the Republic of Trinidad and Tobago (“Trinidad and Tobago”) is being, or is likely to be, sold in the United States at less than fair value (“LTFV”), as provided in section 735 of the Tariff Act of 1930, as amended (“the Act”). The final weighted-average dumping margins for the investigation of melamine from Trinidad and Tobago are listed in the “Final Determination” section, infra.

DATES: Effective: November 6, 2015.

FOR FURTHER INFORMATION CONTACT: Laurel LaCivita, AD/CVD Operations, Office III, Enforcement and Compliance, International Trade Administration, U.S. Department of Commerce, 14th Street and Constitution Avenue NW., Washington, DC 20230; telephone: (202) 482-4243.

SUPPLEMENTARY INFORMATION:

Background

On June 17, 2015, the Department published its Preliminary Determination.¹ We invited interested parties to comment on our Preliminary Determination of sales at LTFV. For a discussion of the events that occurred in this investigation subsequent to the Preliminary Determination, including parties' case and rebuttal briefs, see the Issues and Decision Memorandum.²

¹ Melamine from Trinidad and Tobago: Affirmative Preliminary Determination of Sales at Less Than Fair Value and Postponement of Final Determination, 80 FR 34621 (June 17, 2015) (“Preliminary Determination”).

² See Memorandum to Paul Piquado, Assistant Secretary for Enforcement and Compliance, “Issues and Decision Memorandum for the Final Determination of Sales at Less than Fair Value in the Antidumping Duty Investigation of Melamine from Trinidad and Tobago,” dated concurrently with this notice (“Issues and Decision Memorandum”).

Period of Investigation

The period of investigation (“POI”) is October 1, 2013, through September 30, 2014. This period corresponds to the four most recent fiscal quarters prior to the month of the filing of the petition, which was November 2014.³

³ See 19 CFR 351.204(b)(1).

Scope of the Investigation

The merchandise subject to this investigation is melamine (Chemical Abstracts Service (“CAS”) registry number 108-78-01, molecular formula C3H6N6).⁴ The subject merchandise is provided for in subheading 2933.61.0000 of the Harmonized Tariff Schedule of the United States (“HTSUS”). Although the HTSUS subheading and CAS registry number are provided for convenience and customs purposes, the written description of the scope is dispositive. For a complete description of the merchandise subject to this investigation, see Appendix I.

⁴ Melamine is also known as 2,4,6-triamino-s-triazine; 1,3,5-Triazine-2,4,6-triamine; Cyanurotriamide; Cyanurotriamine; Cyanuramide; and by various brand names.

Verification

As provided in section 782(i) of the Act, from June 13, 2015, to July 15, 2015, we conducted verifications of the sales and cost information submitted by Southern Chemical Corporation, Methanol Holdings (Trinidad) Limited (“MHTL”) and Helm Italia S.R.L.⁵ We used standard verification procedures, including an examination of relevant accounting and production records and original source documents provided by respondents.⁶

⁵ See Memorandum to the File, “Verification of the Cost Response of Methanol Holdings (Trinidad) Limited in the Antidumping Duty Investigation of Melamine from Trinidad and Tobago,” dated July 31, 2015. See also Memorandum to the File, “Antidumping Duty Investigation of Melamine from Trinidad and Tobago: Constructed Export Price, Home Market, and Third-Country Sales Verifications of Methanol Holdings (Trinidad) Limited, Southern Chemical Corporation and Helm Italia S.R.L.,” dated September 10, 2015.

⁶ Id.

Analysis of Comments Received

We addressed all issues raised by parties in case and rebuttal briefs in the Issues and Decision Memorandum, which is hereby adopted by this notice.⁷ Appendix II to this notice includes a list of the issues which the parties raised and to which the Department responded in the Issues and Decision Memorandum. The Issues and Decision Memorandum is a public document and is on file electronically via Enforcement and Compliance's Antidumping and Countervailing Duty Centralized Electronic Service System (“ACCESS”). ACCESS is available to registered users at http://access.trade.gov. The Issues and Decision Memorandum is available to all parties in the Central Records Unit, Room B8024 of the main Department of Commerce building. In addition, a complete version of the Issues and Decision Memorandum is available at http://enforcement.trade.gov/frn/index.html. The signed and electronic versions of the Issues and Decision Memorandum are identical in content.

⁷ See Issues and Decision Memorandum.

Changes Since the Amended Preliminary Determination

Based on the Department's analysis of the comments received and our findings at verification, we made certain changes to MHTL's margin calculations. For a discussion of these changes, see the Issues and Decision Memorandum.

All-Others Rate

Section 735(c)(5)(A) of the Act provides that the estimated all-others rate shall be an amount equal to the weighted-average of the estimated weighted-average dumping margins established for exporters and producers individually investigated excluding any zero or de minimis margins, and margins determined entirely under section 776 of the Act. In this investigation, we calculated a weighted-average dumping margins for MHTL, the sole mandatory respondent, that was above de minimis and not based on section 776 of the Act. Accordingly, we have assigned MHTL's individually calculated margin as the all-others rate for this investigation.

Final Determination

The Department determines that the estimated final weighted-average dumping margins are as follows:

Producer and/or exporter | Weighted- average dumping margin (percent)
MHTL | 172.53
All Others | 172.53

Disclosure

We intend to disclose to parties the calculations performed in this proceeding within five days of the date of publication of this notice in accordance with 19 CFR 351.224(b).

Continuation of Suspension of Liquidation

In accordance with section 735(c)(1)(B) of the Act, the Department will instruct U.S. Customs and Border Protection (“CBP”) to continue to suspend liquidation of all appropriate entries of melamine from Trinidad and Tobago as described in the “Scope of the Investigation” section, which were entered, or withdrawn from warehouse, for consumption on or after June 17, 2015, the date of publication in the Federal Register of the affirmative Preliminary Determination.

Further, pursuant to 19 CFR 351.205(d), the Department will instruct CBP to require a cash deposit equal to the weighted-average amount by which normal value exceeds U.S. price as follows: (1) For the mandatory respondent listed above, the cash deposit rate will be equal to the dumping margin which the Department determined in this final determination adjusted, as appropriate, for export subsidies found in the final determination of the companion countervailing duty investigation; ⁸ (2) if the exporter is not a mandatory respondent identified in this investigation, but the producer is, the cash deposit rate will be the rate established for the producer of the subject merchandise; and (3) the cash deposit rates for all other producers or exporters will be 172.53 percent. The suspension of liquidation instructions will remain in effect until further notice.

⁸ In this case, although the product under investigation is also subject to a countervailing duty investigation, the Department found no countervailing duty determined to constitute an export subsidy. Therefore, we did not offset the cash deposit rates shown above for purposes of this determination.

International Trade Commission Notification

In accordance with section 735(d) of the Act, we notified the International Trade Commission (“ITC”) of the final affirmative determination of sales at LTFV. As the Department's final determination is affirmative, in accordance with section 735(b)(2) of the Act, the ITC will determine, within 45 days, whether the domestic industry in the United States is materially injured, or threatened with material injury, by reason of imports of melamine from Trinidad and Tobago, or sales (or the likelihood of sales) for importation, of melamine from Trinidad and Tobago. If the ITC determines that such injury does not exist, this proceeding will be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Return or Destruction of Proprietary Information

This notice also serves as a reminder to the parties subject to administrative protective order (“APO”) of their responsibility concerning the disposition of propriety information disclosed under APO in accordance with 19 CFR 351.305(a)(3). Timely written notification of return or destruction of APO materials or conversion to judicial protective order is hereby requested. Failure to comply with the regulations and terms of an APO is a sanctionable violation.

This determination is issued and published in accordance with sections 735(d) and 777(i)(1) of the Act.

Dated: October 30, 2015.
Paul Piquado,
Assistant Secretary for Enforcement and Compliance.

Appendix I—Scope of the Investigation

The merchandise subject to this investigation is melamine (Chemical Abstracts Service (“CAS”) registry number 108-78-01, molecular formula C3H6N6).⁹ Melamine is a crystalline powder or granule typically (but not exclusively) used to manufacture melamine formaldehyde resins. All melamine is covered by the scope of this investigation irrespective of purity, particle size, or physical form. Melamine that has been blended with other products is included within this scope when such blends include constituent parts that have been intermingled, but that have not been chemically reacted with each other to produce a different product. For such blends, only the melamine component of the mixture is covered by the scope of this investigation. Melamine that is otherwise subject to this investigation is not excluded when commingled with melamine from sources not subject to this investigation. Only the subject component of such commingled products is covered by the scope of this investigation.

⁹ Melamine is also known as 2,4,6-triamino-s-triazine; 1,3,5-Triazine-2,4,6-triamine; Cyanurotriamide; Cyanurotriamine; Cyanuramide; and by various brand names.

The subject merchandise is provided for in subheading 2933.61.0000 of the Harmonized Tariff Schedule of the United States (“HTSUS”). Although the HTSUS subheading and CAS registry number are provided for convenience and customs purposes, the written description of the scope is dispositive.

Appendix II—Issues and Decision Memorandum

I. Summary

II. Background

III. Scope of the Investigation

IV. Changes Since the Preliminary Determination

V. Discussion of the Issues

Comment 1: Depreciation Expense of Urea Plant

Comment 2: Natural Gas Curtailments

Comment 3: G&A Expenses

Comment 4: CV Profit

Comment 5: Treatment of Certain Commission Expenses

Comment 6: Omission of Certain Expenses from ISE in the United States

Comment 7: Treatment of CV Selling Expenses

VI. Recommendation

[FR Doc. 2015-28350 Filed 11-5-15; 8:45 am]

BILLING CODE 3510-DS-P